GENERAL SERVICES ADMINISTRATION

[Notice-FAS-2014-01; Docket: 2014-0002; Sequence: 30]

Notice of Intent To Prepare a Supplemental Draft Environmental Impact Statement for the U.S. Department of State Foreign Affairs Security Training Center in Nottoway County, Virginia

AGENCY: U.S. General Services Administration (GSA).

ACTION: Notice.

SUMMARY: Pursuant to the National Environmental Policy Act (NEPA) of 1969, as implemented by the Council on Environmental Quality regulations (40 Code of Federal Regulations [CFR] parts 1500-1508), the GSA announces its intent to prepare a Supplement to the Draft Environmental Impact Statement (EIS), released October 26, 2012, analyzing the environmental impacts of site acquisition and development of the United States Department of State (DOS), Bureau of Diplomatic Security, Foreign Affairs Security Training Center (FASTC) at the Virginia Army National Guard Maneuver Training Center at Fort Pickett (Fort Pickett) and Nottoway County's Local Redevelopment Authority (LRA) area in Nottoway County, Virginia.

The Supplemental Draft EIS is being prepared to address substantial changes to the proposed action that are relevant to environmental concerns, as required under NEPA (40 CFR 1502.9), and will assess any new circumstances or information relevant to potential environmental impacts. The Supplemental Draft EIS will incorporate by reference and build upon the analyses presented in the 2012 Draft EIS, and will document the Section 106 process under the National Historic Preservation Act of 1966, as amended (36 CFR Part 800).

GSA will prepare the Supplemental Draft EIS in cooperation with DOS, United States Army Corps of Engineers, United States Environmental Protection Agency, and National Guard Bureau.

Dates and Addresses: A public scoping period and public scoping meeting for the proposed action were held in October 2011. However, the public may submit comments concerning the proposal for 30 days from the date of this notice. Written comments may be mailed to Abigail Low, GSA Project Manager 20 N 8th Street, Philadelphia, PA 19107, or may be sent via email to FASTC.info@gsa.gov. More information on the proposed FASTC program is available at www.state.gov/recovery/fastc.

Future notices will be published to announce the availability of the Supplemental Draft EIS and additional opportunities for public input.

FOR FURTHER INFORMATION CONTACT: Abigail Low, GSA Project Manager; 20 N 8th Street, Philadelphia, PA 19107 (215) 446-4815, FASTC.info@gsa.gov.

SUPPLEMENTARY INFORMATION: Background: The purpose of the proposed FASTC at Fort Pickett is to consolidate existing dispersed hard-skills training functions into a single suitable location to improve training efficiency and enhance training operations. The proposed FASTC is needed to establish a facility from which DOS Bureau of Diplomatic Security may conduct a wide array of hard-skills security training to meet the increased demand for well trained personnel serving at embassies overseas and select foreign partners.

Fort Pickett and Nottoway County's LRA area in Nottoway County near Blackstone, Virginia was selected as a potential site in July 2011, and a Draft EIS was released in October 2012. In early 2013, the Administration indicated all efforts and work at the proposed site in Fort Pickett Army National Guard Maneuver Training Center and Nottoway County's LRA area should be put on hold pending additional due diligence and reviews at an existing training site in Georgia. As part of the due diligence effort requested by the Administration, DOS conducted site visits to the Federal Law Enforcement Training Center (FLETC) in Glynco, Georgia. During this time period, DOS assessed the scope and size of the FASTC project and determined a smaller platform at Fort Pickett was more fiscally prudent.

In April 2014, the Administration re-affirmed the earlier DOS selection of the FASTC proposed sites in Fort Picket Army National Guard Maneuver Training Center and the Nottoway County LRA area at a reduced scope of requirements. The project will proceed as a hard-skills only facility.

Based on adjustments made to the proposed FASTC Program, DOS has undertaken the preparation of a Master Plan Update that modifies the previous alternatives evaluated in the 2012 Draft EIS. The Master Plan Update concept will be evaluated as Build Alternative 3 in the Supplemental Draft EIS. The alternatives to be fully evaluated in the Supplemental Draft EIS include the No Action Alternative and Build Alternative 3.

The proposed location of Build Alternative 3 includes three adjacent land parcels: Fort Pickett Parcels 21/20 and Grid Parcel, and Nottoway County LRA Parcel 9.

The Supplemental Draft EIS will assess potential impacts that may result from the modified alternative, including, air quality, noise, land use, socioeconomics, traffic, infrastructure and community services, natural resources, biological resources, cultural resources, and safety and environmental hazards. The analysis will evaluate direct, indirect, and cumulative impacts. Relevant and reasonable measures that could avoid or mitigate environmental effects will also be analyzed. Additionally, GSA will undertake any consultations required by applicable laws or regulations, including the National Historic Preservation Act.

No decision will be made to implement any alternative until the NEPA process is completed and a Record of Decision is signed.

Dated: August 19, 2014.
Myles Vaughan,
NEPA Program Manager, Facilities Management & Services Programs Division, U.S. GSA, Mid-Atlantic Region.

[FR Doc. 2014-20902 Filed 9-2-14; 8:45 am]

BILLING CODE 6820-89-P